DEPARTMENT OF THE TREASURY

Fiscal Service

Surety Companies Acceptable on Federal Bonds; Change in State of Incorportation, Business Address and Phone; St. Paul Fire and Marine Insurance Company; St. Paul Guardian Insurance Company; St. Paul Mercury Insurance Company

AGENCY: Financial Management Service, Fiscal Service, Department of the Treasury.

ACTION: Notice.

SUMMARY: This is Supplement No. 11 to the Treasury Department Circular 570, 2010 Revision published July 1, 2010 at 75 FR 38192.

FOR FURTHER INFORMATION CONTACT: Surety Bond Branch at (202) 874-6850.

SUPPLEMENTARY INFORMATION: Notice is hereby given that St. Paul Fire and Marine Insurance Company (24767), St. Paul Guardian Insurance Company (24775) and St. Paul Mercury Insurance (24791) have redomesticated from the state of Minnesota to the state of Connecticut effective December 15, 2010. In addition, the above named companies have formally changed their “Business Address” and phone number to: BUSINESS ADDRESS: One Tower Square, Hartford, CT 06183. PHONE: (860) 277-0111.

Federal bond-approving officials should annotate their reference copies of the Treasury Department Circular 570 (“Circular”), 2010 Revision, to reflect these changes.

The Circular may be viewed and downloaded through the Internet at http://www.fms.treas.gov/c570.

Questions concerning this notice may be directed to the U.S. Department of the Treasury, Financial Management Service, Financial Accounting and Services Division, Surety Bond Branch, 3700 East-West Highway Room 6F01, Hyattsville, MD 20782.

Dated: June 16, 2011.
Laura Carrico,
Director, Financial Accounting and Services Division.

[FR Doc. 2011-15853 Filed 6-23-11; 8:45 am]

BILLING CODE 4810-35-M